DEPARTMENT OF TRANSPORTATION

Federal Aviation Administration

14 CFR Part 71

[Docket No. FAA-2006-25671; Airspace Docket No. 07-AWP-3]

Modification of Class D Airspace; Castle Airport, Atwater, CA

AGENCY: Federal Aviation Administration (FAA), DOT.

ACTION:

Final rule.

SUMMARY: This rule modifies Class D airspace at Castle Airport, Atwater, CA. This action lowers the ceiling of the Atwater, Castle Class D airspace to below 2.000 feet mean sea level (MSL), changes the southern boundary of the airspace and add an extension to the north. FAA is taking this action to provide controlled airspace for the safety of aircraft executing Standard Instrument Approach Procedures (SIAPs) and other Instrument Flight Rules (IFR) operations at Castle Airport. Except for editorial changes, this rule is the same as the Notice of Proposed Rule Making.

DATES: Effective Date: 0901 UTC, February 14, 2008. The Director of the Federal Register approves this incorporation by reference action under Title 1, Code of Federal Regulations, part 51, subject to the annual revision of FAA Order 7400.9 and publication of conforming amendments.

FOR FURTHER INFORMATION CONTACT: Larry Tonish, System Support Specialists, Federal Aviation Administration, Western Service Area, 1601 Lind Avenue, SW., Renton, WA 98057; telephone (425) 917-6766.

SUPPLEMENTARY INFORMATION:

History

On May 29, 2007, the FAA proposed to amend Title 14 Code of the Federal Regulations part 71 (14 CFR part 71) to modify Class D airspace at Castle Airport, Atwater, CA (72 FR 29455). The proposal was the result of an informal meeting on April 26, 2007 with representatives from FAA, local and aviation communities at Atwater, CA. At that meeting, the participants discussed various airspace alternatives designed to accommodate IFR and Visual Flight Rules (VFR) operations in and out of nearby Merced Airport located 6 miles to the south of Castle Airport. The FAA, local and aviation communities agreed on an alternative that would reduce the ceiling of Class D airspace, modify the southern border, and add an extension on the north side of the Class D for safety of aircraft executing SIAP's and other IFR operations at Castle Airport. Class D airspace will be effective during specified dates and times established in advance by a Notice to Airmen. The effective date and time will, thereafter, be published in the Airport/Facility Directory.

Interested parties were invited to participate in this rule making proceeding by submitting written comments on the proposal to the FAA. Eight comments were received, 5 positive and 3 negative. Of the three negative comments, one commenter suggested no change. The no change proposal was discussed at the April 26, 2007 meeting, considered by the FAA and was not adopted because there were no landmarks to identify the common Class D boundary with Merced Airport. The remaining two commenters recommended that the Castle Class D airspace be truncated along Highway 99. This recommendation was also considered by the FAA and not adopted because it would not allow sufficient airspace to conduct terminal operations at Castle Airport.

The Rule

This amendment to 14 CFR part 71 modifies Class D airspace at Castle Airport, Atwater, CA. An Airport Traffic Control Tower (ATCT) is being established at Castle Airport, Atwater, CA, which will meet criteria for Class D airspace. Class D airspace areas are published in Paragraph 5000 of FAA Order 7400.9R, dated August 15, 2007, and effective September 15, 2007, which is incorporated by reference in 14 CFR 71.1. The Class D airspace designations listed in this document would be published subsequently in the Order.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

This rulemaking is promulgated under the authority described in Subtitle VII, Part A, Subpart I, Section 40103. The FAA is charged with prescribing regulations to assign the use of airspace necessary to ensure the safety of aircraft and the efficient use of airspace. This regulation is within the scope of that authority as it would provide for the safety of aircraft operations at Castle airport.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9R, Airspace Designations and Reporting Points, dated August 15, 2007, and effective September 15, 2007, is amended as follows:

Paragraph 5000 Class D Airspace area.

* * * * *

AWP CA D Castle Airport, Atwater, CA [Modified]

Castle Airport, Atwater, CA

(Lat. 37°22′50″ N., long. 120°34′05″ W.)

That airspace extending upward from the surface to but not including 2,000 feet MSL beginning at lat. 37°20′22″ N., long. 120°38′49″ W., and extending clockwise around the 4.5-nautical mile radius of the Castle Airport to lat. 37°20′02″ N., long. 120°29′39″ W., thence to the point of beginning; and within 1.9 miles each side of the El Nido VORTAC 320° radial from the 4.5-nautical mile radius to 17.6 miles from the El Nido VORTAC. This Class D airspace area is effective during the specific dates and times established in advance by a Notice to Airmen. The effective dates and times will thereafter be continuously published in the Airport/Facility Directory.

* * * * *

Issued in Seattle, Washington, on September 10, 2007.
Clark Desing,
Manager, System Support Group, Western Service Center.

[FR Doc. 07-5262 Filed 10-25-07; 8:45 am]

BILLING CODE 4910-13-M